DEPARTMENT OF TRANSPORTATION

Federal Aviation Administration

Notice of Submission Deadline for Schedule Information for Chicago O'Hare International Airport, John F. Kennedy International Airport, Los Angeles International Airport, Newark Liberty International Airport, and San Francisco International Airport for the Winter 2022/2023 Scheduling Season

AGENCY: Department of Transportation, Federal Aviation Administration (FAA).

ACTION: Notice of submission deadline.

SUMMARY: Under this notice, the FAA announces the submission deadline of May 19, 2022, for Winter 2022/2023 flight schedules at Chicago O'Hare International Airport (ORD), John F. Kennedy International Airport (JFK), Los Angeles International Airport (LAX), Newark Liberty International Airport (EWR), and San Francisco International Airport (SFO).

DATES: Schedules should be submitted by May 19, 2022.

ADDRESSES: Schedules may be submitted to the Slot Administration Office by email to: 7-AWA-slotadmin@faa.gov.

FOR FURTHER INFORMATION CONTACT: Al Meilus, Manager, Slot Administration, AJR-G, Federal Aviation Administration, 800 Independence Avenue SW, Washington, DC 20591; telephone (202) 267-2822; email Al.Meilus@faa.gov.

SUPPLEMENTARY INFORMATION: This document provides routine notice to carriers serving capacity-constrained airports in the United States, including Chicago O'Hare International Airport (ORD), John F. Kennedy International Airport (JFK), Los Angeles International Airport (LAX), Newark Liberty International Airport (EWR), and San Francisco International Airport (SFO). In particular, this notice announces the deadline for carriers to submit schedules for the Winter 2022/2023 scheduling season. The FAA deadline coincides with the schedule submission deadline established in the International Air Transport Association (IATA) Calendar of Coordination Activities.

General Information for All Airports

The FAA has designated EWR, LAX, ORD, and SFO as IATA Level 2 airports ¹ subject to a schedule review process premised upon voluntary cooperation. The FAA has designated JFK as an IATA Level 3 airport consistent with the Worldwide Slot Guidelines (WSG), now generally known as the Worldwide Airport Slot Guidelines (WASG).² The FAA currently limits scheduled operations at JFK by order that expires on October 29, 2022.³ The Winter 2022/2023 scheduling season is from October 30, 2022, through March 25, 2023, in recognition of the IATA Northern Winter scheduling period. Notwithstanding that carriers may presently face uncertainty about their international operations in light of coronavirus disease 2019 (COVID-19), carriers should continue preparations for schedule facilitation at Level 2 airports and an extension of slot controls at JFK during the Winter 2022/2023 scheduling season and submit their schedule under the assumption that no relief will be granted at Level 2 and Level 3 airports during the Winter 2022/2023 scheduling season.⁴ The FAA and the Office of the Secretary will continue to monitor industry developments closely and will announce any possible COVID-19-related relief, if it is deemed necessary, in a separate notice. Any potential relief for the Winter 2022/2023 scheduling season and any potential action to alter the established rules and policies for slot management and schedule facilitation in the United States are not within the scope of this notice.

¹ These designations remain effective until the FAA announces a change in the Federal Register.

² The FAA generally applies the WSG edition 9 to the extent there is no conflict with U.S. law or regulation.

³ Operating Limitations at John F. Kennedy International Airport, 73 FR 3510 (Jan. 18, 2008), as most recently extended 85 FR 58258 (Sep. 18, 2020). The slot coordination parameters for JFK are set forth in this Order.

⁴ For additional information on COVID-19 impacts at designated IATA Level 2 and 3 airports in the United States and actions taken by the FAA to preserve stability through the Winter 2021/2022 scheduling season, see FAA Notice of Limited, Conditional Extension of COVID-19 Related Relief for International Operations only for the Winter 2021/2022 Scheduling Season, 86 FR 58134 (Oct. 20, 2021).

The FAA is concerned primarily about scheduled and other regularly conducted commercial operations during designated hours, but carriers may submit schedule plans for the entire day. The designated hours for the Winter 2022/2023 scheduling season are: At EWR and JFK from 0600 to 2300 Eastern Time (1100 to 0400 UTC), at LAX and SFO from 0600 to 2300 Pacific Time (1400 to 0700 UTC), and at ORD from 0600 to 2100 Central Time (1200 to 0300 UTC). These hours are unchanged from previous scheduling seasons. The FAA understands there may be differences in schedule times due to U.S. daylight saving time dates and will accommodate these differences to the extent possible.

Carriers should submit schedule information in sufficient detail including, at minimum, the marketing or operating carrier, flight number, scheduled time of operation, frequency, aircraft equipment, and effective dates. IATA standard schedule information format and data elements for communications at Level 2 and Level 3 airports in the IATA Standard Schedules Information Manual (SSIM) Chapter 6 may be used. The WSG provides additional information on schedule submissions at Level 2 and Level 3 airports. Some carriers at JFK manage and track slots through FAA-assigned Slot ID numbers corresponding to an arrival or departure slot in a particular half-hour on a particular day of week and date. The FAA has a similar voluntary process for tracking schedules at EWR with Reference IDs, and certain carriers are managing their schedules accordingly. These are primarily U.S. and Canadian carriers that have the highest frequencies and considerable schedule changes throughout the season and can benefit from a simplified exchange of information not dependent on full flight details. Carriers are encouraged to submit schedule requests at those airports using Slot or Reference IDs.

As stated in the WSG, schedule facilitation at a Level 2 airport is based on the following: (1) Schedule adjustments are mutually agreed upon between the carriers and the facilitator; (2) the intent is to avoid exceeding the airport's coordination parameters; (3) the concepts of historic precedence and series of slots do not apply at Level 2 airports; although WSG recommends giving priority to approved services that plan to operate unchanged from the previous equivalent season at Level 2 airports, and (4) the facilitator should adjust the smallest number of flights by the least amount of time necessary to avoid exceeding the airport's coordination parameters. Consistent with the WSG, the success of Level 2 in the United States depends on the voluntary cooperation of carriers.

The FAA considers several factors and priorities as it reviews schedule and slot requests at Level 2 and Level 3 airports, which are consistent with the WSG, including—historic slots or services from the previous equivalent season over new demand for the same timings, services that are unchanged over services that plan to change time or other capacity relevant parameters, introduction of year-round services, effective period of operation, regularly planned operations over ad hoc operations, and other operational factors that may limit a carrier's timing flexibility. In addition to applying these priorities from the WSG, the U.S. Government has adopted a number of measures and procedures to promote competition and new entry at U.S. slot-controlled and schedule-facilitated airports.

Consistent with the limited, conditional extension of COVID-19 related relief for the Winter 2021/2022 scheduling season ⁵, slots or schedules operated as approved on a non-historic or an ad hoc basis in Winter 2021/2022 will be given priority over new requests for the same timings in Winter 2022/2023, subject to capacity availability and consistent with established rules and policies in effect in the United States. This priority applies to slot or schedule requests for Winter 2022/2023, which are comparable in timing, frequency, and duration to the ad hoc approvals made by the FAA for Winter 2021/2022. This priority does not affect the historic precedence or priority of slot holders and carriers with schedule approvals, respectively, which met the conditions of the waiver during Winter 2021/2022 and which seek to resume operating in Winter 2022/2023. The FAA may consider this priority in the event that slots with historic precedence become available for permanent allocation by the FAA. Foreign air carriers seeking priority under this provision will be required to represent that their home jurisdiction will provide reciprocal priority to U.S. carrier requests of this nature. Slot management in the United States differs in some respect from procedures in other countries. In the United States, the FAA is responsible for facilitation and coordination of runway access for takeoffs and landings at Level 2 and Level 3 airports; however, the airport authority or its designee is responsible for facilitation and coordination of terminal/gate/airport facility access. The process with the individual airports for terminal access and other airport services is separate from, and in addition to, the FAA schedule review based on runway capacity.

⁵ See FAA Notice of Limited, Conditional Extension of COVID-19 Related Relief for International Operations only for the Winter 2021/2022 Scheduling Season, 86 FR 58134 (Oct. 20, 2021).

Generally, the FAA uses average hourly runway capacity throughput for airports and performance metrics in conducting its schedule review at Level 2 airports and determining the scheduling limits at Level 3 airports included in FAA rules or orders.⁶ The FAA also considers other factors that can affect operations, such as capacity changes due to runway, taxiway, or other airport construction, air traffic control procedural changes, airport surface operations, and historical or projected flight delays and congestion.

⁶ The FAA typically determines an airport's average adjusted runway capacity or typical throughput for Level 2 airports by reviewing hourly data on the arrival and departure rates that air traffic control indicates could be accepted for that hour, commonly known as “called” rates. The FAA also reviews the actual number of arrivals and departures that operated in the same hour. Generally, the FAA uses the higher of the two numbers, called or actual, for identifying trends and schedule review purposes. Some dates are excluded from analysis, such as during periods when extended airport closures or construction could affect capacity.

Finally, the FAA notes that the schedule information submitted by carriers to the FAA may be subject to disclosure under the Freedom of Information Act (FOIA). The WSG also provides for release of information at certain stages of slot coordination and schedule facilitation. In general, once it acts on a schedule submission or slot request, the FAA may release information on slot allocation or similar slot transactions or schedule information reviewed as part of the schedule facilitation process. The FAA does not expect that practice to change and most slot and schedule information would not be exempt from release under FOIA. The FAA recognizes that some carriers may submit information on schedule plans that is both customarily and actually treated as private. Carriers that submit such confidential schedule information should clearly mark the information, or any relevant portions thereof, as proprietary information (“PROPIN”). The FAA will take the necessary steps to protect properly designated information to the extent allowable by law.

EWR General Information

Consistent with the WSG, carriers are asked for their voluntary cooperation to adjust schedules to meet the targeted scheduling limits in order to minimize potential congestion and delay. For the Winter 2022/2023 season, the voluntary, targeted hourly scheduling limit remains at 79 operations and 43 operations per half-hour.⁷ To help with a balance between arrivals and departures, the targeted maximum number of scheduled arrivals or departures, respectively, is 43 in an hour and 24 in a half-hour. These targets are expected to allow some higher levels of operations in certain periods (not to exceed the hourly limits) and some recovery from lower demand in adjacent periods. Consistent with general established practice at EWR, the FAA will accept flights above the limits if the flights were operated as approved, or treated as operated, by the same carrier on a regular basis in the previous corresponding season (i.e., Winter 2021/2022).

⁷ 83 FR 21335 (May 9, 2018).

Notwithstanding the targeted limits at EWR previously described, OST and the FAA have decided to reintroduce and reassign 16 peak afternoon and evening runway timings, which were historically approved for operation by Southwest Airlines, Inc. at EWR prior to the carrier's exit from the airport in November 2019. ⁸ This proposed reassignment of schedule timings at EWR is an independent process outside of the FAA's routine schedule review process. Once the reassignment proceeding is complete, the FAA will seek to work in coordination with the awarded carrier to adjust schedules within the peak afternoon and evening period, including minor changes between adjacent half hours, in the interest of optimizing efficiency and accommodating the carrier's schedule plans, consistent with the usual Level 2 process.

⁸ Reassignment of Schedules at Newark-Liberty International Airport, 86 FR 52285 (Sept. 20, 2021). See also Reassignment of schedules at Newark-Liberty International Airport, Docket DOT-OST-2021-0103 (Feb. 25, 2022).

Issued in Washington, DC, on May 13, 2022.
Virginia T. Boyle,
Vice President, System Operations Services.

[FR Doc. 2022-10740 Filed 5-16-22; 11:15 am]

BILLING CODE 4910-13-P